FEDERAL COMMUNICATIONS COMMISSION

47 CFR Part 73

[DA 06-844; MB Docket No. 06-83; RM-11325]

Radio Broadcasting Services; Eagle Lake and Vernon Center, MN

AGENCY: Federal Communications Commission.

ACTION: Proposed rule.

SUMMARY: The Audio Division requests comment on a petition filed by Radioactive, LLC to reallot and modify its construction permit for an unbuilt FM station from Channel 231A at Vernon Center, Minnesota, to Channel 231A at Eagle Lake, Minnesota. See SUPPLEMENTARY INFORMATION.

DATES: Comments must be filed on or before June 6, 2006, and reply comments on or before June 20, 2006.

ADDRESSES: Federal Communications Commission, 445 Twelfth Street, SW., Washington, DC 20554. In addition to filing comments with the FCC, interested parties should serve the petitioner, as follows: Marissa G. Repp, Esq. and Tarah S. Grant, Esq., Hogan & Hartson LLP, 555 Thirteenth Street, NW., Washington, DC 20004-1109 (Counsel for Radioactive, LLC).

FOR FURTHER INFORMATION CONTACT: Andrew J. Rhodes, Media Bureau, (202) 418-2180.

SUPPLEMENTARY INFORMATION: This is a summary of the Commission's Notice of Proposed Rule Making, MB Docket No. 06-83, adopted April 12, 2006, and released April 14, 2006. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Pursuant to § 1.420(i) of the Commission's Rules, we shall not accept competing expressions of interest pertaining to the use of Channel 231A at Eagle Lake, Minnesota. Channel 231A can be allotted to Eagle Lake at proposed reference coordinates of 44-12-29 NL and 93-55-00 WL.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Minnesota, is amended by removing Vernon Center, Channel 231A and by adding Eagle Lake, Channel 231A.

Federal Communications Commission.
John A. Karousos,
Assistant Chief, Audio Division, Media Bureau.

[FR Doc. E6-6612 Filed 5-2-06; 8:45 am]

BILLING CODE 6712-01-P